DEPARTMENT OF ENERGY

Federal Energy Regulatory Commission

[Docket No. IC05-549-001, FERC-549]

Commission Information Collection Activities, Proposed Collection; Comment Request; Submitted for OMB Review

May 3, 2005.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and reinstatement of this information collection requirement. Any interested person may file comments directly with OMB and should address a copy of those comments to the Commission as explained below. The Commission received one comment in response to an earlier Federal Register notice of March 1, 2005 (70 FR 9937-9938) and has noted this in its submission to OMB.

DATES: Comments on the collection of information are due by May 31, 2005.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at (202) 395-4650. A copy of the comments should also be sent to the Federal Energy Regulatory Commission, Office of the Executive Director, ED-30, Attention: Michael Miller, 888 First Street NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC05-549-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's e-mail address upon receipt of comments. User assistance for electronic filings is available at 202-502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-549, “Gas Pipeline Rates: NGPA Title III and NGA Blanket Certificate Transactions”.

2. Sponsor: Federal Energy Regulatory Commission.

3. Control No.: 1902-0086.

The Commission is now requesting that OMB approve a three-year extension of the expiration date, with no changes to the existing collection. The information filed with the Commission is mandatory.

4. Necessity of the Collection of Information: Submission of the information is necessary for the Commission to carry out its responsibilities in implementing the statutory provisions of sections 311 and 312 of the Natural Gas Policy Act (NGPA) and Section 7 of the Natural Gas Act (NGA). The reporting requirements for implementing these provisions are contained in 18 Code of Federal Regulations (CFR) Part 284. Under Part 284 of the Commission's regulations non-interstate pipelines that perform transportation service under NGPA section 311 (intrastate pipelines) or blanket certificates issued under section 7 of the NGA are required to file an annual report containing specific details of each transaction initiated during the reporting year. Interstate pipelines performing unbundled sales service under a blanket certificate granted under Part 284 of the regulations are required to file an annual report detailing specific information on each transaction initiated during the reporting year.

In Order No. 644 (68 FR 66323, November 26, 2003), the Commission amended its regulations regarding blanket certificates for unbundled gas sales services held by interstate natural gas pipelines and blanket marketing certificates held by persons making sales for resale of gas at negotiated rates in interstate commerce. The Commission required that pipelines and all sellers for resale adhere to a code of conduct with respect to gas sales.

The information collected in these reports is used by the Commission to monitor the jurisdictional transportation activities of intrastate, Hinshaw pipelines and the unbundled sales activities of interstate natural gas pipelines and persons holding blanket marketing certificates. The Commission also uses the information to ensure the integrity of the gas sales market that remains under the Commission's jurisdiction. These are mandatory filing and recordkeeping requirements in the Code of Federal Regulations under 18 CFR 284.126, 284.281-284.288 and 284.401-284.403.

5. Respondent Description: The respondent universe currently comprises 222 filings (average per year) subject to the Commission's jurisdiction. Of the 222, 77 filings are for the transportation report under 284.126.

6. Estimated Burden: 1,290 total hours, 222 respondents (average per year), 1 response per respondent, and 11.2 hours per response (average) for the two filings.

7. Estimated Cost Burden to Respondents: 1,290 hours / 2080 hours per year × $108,558 per year = $44,154 (reporting) + $477,300 (22 × $2150) (recordkeeping) = $521,145. The cost per respondent is equal to $2,349.

Statutory Authority: Sections 311-312 of the NGPA (15 U.S.C. 3371-3372) and Section 7 of the NGA (15 U.S.C. 717f).

Magalie R. Salas,
Secretary.

[FR Doc. E5-2251 Filed 5-9-05; 8:45 am]

BILLING CODE 6717-01-P